DEPARTMENT OF JUSTICE

Parole Commission

Sunshine Act Meeting

ACTION: Public Announcement of meeting pursuant to the Government In the Sunshine Act (Public Law 94-409; 5 U.S.C. Section 552b).

Agency Holding Meeting: Department of Justice, United States Parole Commission.

Date and Time: 12:00 p.m., Friday, June 22, 2001.

Place: 5550 Friendship Boulevard, Suite 400, Chevy Chase, Maryland 20815.

Status: Closed—Meeting.

Matters Considered: The following matter will be considered during the closed portion of the Commission's Business Meeting:

Appeals to the Commission involving approximately two cases decided by the National Commissioners pursuant to a reference under 28 C.F.R. 2.27. These cases were originally heard by an examiner panel wherein inmates of Federal prisons have applied for parole or are contesting revocation of parole or mandatory release.

Agency Contact: Sam Robertson, Case Operations, United States Parole Commission, (301) 492-5962.

Dated: June 15, 2001.
Michael A. Stover,
General Counsel, U.S. Parole Commission.

[FR Doc. 01-15597 Filed 6-18-01; 1:06 pm]

BILLING CODE 4410-31-M